DEPARTMENT OF COMMERCE

Census Bureau

Proposed Information Collection; Comment Request; Annual Survey of School System Finances

AGENCY: U.S. Census Bureau, Commerce.

ACTION: Notice.

SUMMARY: The Department of Commerce, as part of its continuing effort to reduce paperwork and respondent burden, invites the general public and other Federal agencies to take this opportunity to comment on proposed and/or continuing information collections, as required by the Paperwork Reduction Act of 1995.

DATES: To ensure consideration, written comments must be submitted on or before April 10, 2018.

ADDRESSES: Direct all written comments to Jennifer Jessup, Departmental Paperwork Clearance Officer, Department of Commerce, Room 6616, 14th and Constitution Avenue NW, Washington, DC 20230 (or via the internet at PRAcomments@doc.gov).

FOR FURTHER INFORMATION CONTACT: Requests for additional information or copies of the information collection instrument(s) and instructions should be directed to David J. Gromos, U.S. Census Bureau, Economic Reimbursable Surveys Division, Room 6H151, Washington, DC 20233; (301) 763-4659 (or via the internet at david.j.gromos@census.gov).

SUPPLEMENTARY INFORMATION:

I. Abstract

The U.S. Census Bureau plans to continue the current Office of Management and Budget clearance for the Annual Survey of School System Finances. The Annual Survey of School System Finances is the only comprehensive source of public elementary-secondary school system finance data collected on a nationwide scale using uniform definitions, concepts, and procedures. The collection covers the revenues, expenditures, debt, and assets of all public elementary-secondary school systems. This data collection has been coordinated with the National Center for Education Statistics (NCES). The NCES uses this collection to satisfy its need for school finance data.

Fiscal data provided by respondents aid data users in measuring the effectiveness of resource allocation. The products of this data collection make it possible for data users to search a single database to obtain information on such things as per pupil expenditures and the percent of state, local, and federal funding for each school system. Elementary-secondary education related spending is the single largest financial activity of state and local governments. Education finance statistics provided by the Census Bureau allow for analyses of how public elementary-secondary school systems receive their funding and how they are spending their funds.

II. Method of Collection

A letter is mailed electronically at the beginning of each survey period to solicit the assistance of the state education agencies. This letter officially announces the opening of the data collection period and requests some administrative data, such as the estimated date of submission, any change to the reporting format from prior year, and updated contact information for the state coordinator.

The survey form (F-33) contains item descriptions and definitions of the elementary-secondary education finance items collected jointly by the Census Bureau and NCES. It is used primarily as a worksheet and instruction guide by the state education agencies providing school finance data centrally for the school systems in their respective states. The Census Bureau collects almost all of the finance data for local school systems from state education agency databases through central collection arrangements with the state education agencies. The states transfer this information in electronic format over the internet via file transfer protocol. The Census Bureau has also facilitated central collection of school system finance data by accepting data in multiple formats.

Supplemental forms are sent to local school systems in states where the state education agency cannot centrally provide information on assets (F-33-L1), indebtedness (F-33-L2), or both (F-33-L3).

III. Data

OMB Control Number: 0607-0700.

Form Number(s): F-33, Supplemental forms: F-33-L1, F-33-L2 and F-33-L3.

Type of Review: Regular submission.

Affected Public: State and local governments.

Estimated Number of Respondents: F-33: 51, Supplement: 3,630.

Estimated Time per Response: F-33: 59 hrs. 41 minutes, Supplemental: 15 minutes.

Estimated Total Annual Burden Hours: 3,951.

Estimated Total Annual Cost to Public: $0. (This is not the cost of respondents' time, but the indirect costs respondents may incur for such things as purchases of specialized software or hardware needed to report, or expenditures for accounting or records maintenance services required specifically by the collection.)

Respondent's Obligation: Voluntary.

Legal Authority: Census: Title 13 U.S.C. Sections 8(b), 161, and 182. NCES: Title 20 U.S.C. Sections 9543-44.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Sheleen Dumas,
Departmental Lead PRA Officer, Office of the Chief Information Officer.

[FR Doc. 2018-02581 Filed 2-8-18; 8:45 am]

BILLING CODE 3510-07-P